NUCLEAR REGULATORY COMMISSION

[NRC-2009-0214]

Notice of Availability and Opportunity for Comment on Interim Staff Guidance Regarding the Review of Research and Test Reactor License Renewal Applications

AGENCY: Nuclear Regulatory Commission.

ACTION: Notice of Opportunity to Comment on Interim Staff Guidance (ISG) Regarding the Review of Research and Test Reactor License Renewal Applications.

DATES: Interested parties are invited to submit comments on this interim staff guidance by July 16, 2009. Comments received after this date will be considered if practicable to do so, but only those comments received on or before the due date can be assured consideration.

FOR FURTHER INFORMATION CONTACT: Alexander Adams Jr., Division of Policy and Rulemaking, Office of Nuclear Reactor Regulation, U.S. Nuclear Regulatory Commission, Washington, DC 20555-0001, telephone (301) 415-1127, e-mail alexander.adams@nrc.gov; or Marcus Voth, Division of Policy and Rulemaking, Office of Nuclear Reactor Regulation, U.S. Nuclear Regulatory Commission, Washington, DC 20555-0001, telephone (301) 415-1210, e-mail marcus.voth@nrc.gov.

ADDRESSES: Comments will be made available to the public in their entirety; personal information, such as your name, address, telephone number, e-mail address, etc., will not be removed from your submission. You may submit comments by any one of the following methods:

Federal e-Rulemaking Portal: Go to http://www.regulations.gov and search on the Docket ID for this action: NRC-2009-0214.

Mail or fax comments to: Michael T. Lesar, Chief, Rulemaking and Directives Branch, Office of Administration, Mail Stop: TWB-05-B01M, U.S. Nuclear Regulatory Commission, Washington, DC 20555-0001 (Fax number: (301) 492-3446).

You can access publicly available documents related to this notice using the following methods:

Federal e-Rulemaking Portal: Documents related to this notice, including public comments, are accessible at http://www.regulations.gov, by searching on docket ID: NRC-2009-0214.

NRC's Public Document Room (PDR): The public may examine, and have copied for a fee, publicly available documents at the NRC's PDR, Public File Area O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The document, “Interim Staff Guidance on Streamlined Review Process for License Renewal for Research Reactors” is available electronically under ADAMS Accession Number ML091420066.

SUPPLEMENTARY INFORMATION: On May 22, 2009 (74 FR 24049), the NRC published a notice of a public meeting (Announcement of a Proposed Process Change Regarding the Review of Research and Test Reactor License Renewal Applications) to be held on June 4, 2009, to discuss draft interim staff guidance. That same guidance is hereby being made available for review and written comment.

Dated at Rockville, Maryland, this 8th day of June 2009.
For the Nuclear Regulatory Commission.
Kathryn M. Brock,
Chief, Research and Test Reactor Branch A, Division of Policy and Rulemaking, Office of Nuclear Reactor Regulation.

[FR Doc. E9-14111 Filed 6-15-09; 8:45 am]

BILLING CODE 7590-01-P